RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Application for Spouse Annuity Under the Railroad Retirement Act.

(2) Form(s) submitted: AA-3.

(3) OMB Number: 3220-0042.

(4) Expiration date of current OMB clearance: 6/30/2000.

(5) Type of request: Revision of a currently approved collection.

(6) Respondents: Individuals or households.

(7) Estimated annual number of respondents: 8,500.

(8) Total annual response: 8,500.

(9) Total annual reporting hours: 4,717.

(10) Collection description: The Railroad Retirement Act provides for the payment of annuities to spouses of railroad retirement annuitants who meet the requirements under the Act. The application obtains information supporting the claim for benefits based on being a spouse of an annuitant. The information is used for determining entitlement to and amount of the annuity applied for.

Additional Information or Comments

Copies of the forms and supporting documents can be obtained from Chuck Mierzwa, the agency clearance officer (312-751-3363). Comments regarding the information collection should be addressed to Ronald J. Hodapp, Railroad Retirement Board, 844 North Rush Street, Chicago, Illinois, 60611-2092 and the OMB reviewer, Joe Lackey (202-395-7316), Office of Management and Budget, Room 10230, New Executive Office Building, Washington, DC 20503.

Chuck Mierzwa,
Clearance Officer.

[FR Doc. 00-11218 Filed 5-4-00; 8:45 am]

BILLING CODE 7905-01-M